DEPARTMENT OF TRANSPORTATION

Federal Aviation Administration

14 CFR Part 39

[Docket No. FAA-2006-25637; Directorate Identifier 2006-CE-43-AD; Amendment 39-14939; AD 2007-04-08]

RIN 2120-AA64

Airworthiness Directives; EADS SOCATA Model TBM 700 Airplanes

AGENCY: Federal Aviation Administration (FAA), DOT.

ACTION: Final rule.

SUMMARY: The FAA adopts a new airworthiness directive (AD) for certain EADS SOCATA airplanes. This AD requires you to inspect the pilot door locking stop-fittings for correct length and, if any incorrect length pilot door locking stop-fittings are found, replace them. This AD results from mandatory continuing airworthiness information (MCAI) issued by the airworthiness authority for France. We are issuing this AD to detect and replace incorrect length pilot door locking stop-fittings. This condition, if not corrected, could result in depressurization of the airplane.

DATES: This AD becomes effective on March 23, 2007.

As of March 23, 2007, the Director of the Federal Register approved the incorporation by reference of certain publications listed in the regulation.

ADDRESSES: To get the service information identified in this AD, contact EADS SOCATA, Direction des Services, 65921 Tarbes Cedex 9, France; telephone: 33 (0)5 62 41 73 00; fax: 33 (0)5 62 41 76 54; or SOCATA AIRCRAFT, INC., North Perry Airport, 7501 South Airport Rd., Pembroke Pines, FL 33023; telephone: (954) 893-1400; fax: (954) 964-4141.

To view the AD docket, go to the Docket Management Facility; U.S. Department of Transportation, 400 Seventh Street, SW., Nassif Building, Room PL-401, Washington, DC 20590-001 or on the Internet at http://dms.dot.gov. The docket number is FAA-2006-25637; Directorate Identifier 2006-CE-43-AD.

FOR FURTHER INFORMATION CONTACT: Albert Mercado, Aerospace Engineer, FAA, Small Airplane Directorate, 901 Locust, Room 301, Kansas City, Missouri 64106; telephone: (816) 329-4119; fax: (816) 329-4090.

SUPPLEMENTARY INFORMATION:

Discussion

On September 20, 2006, we issued a proposal to amend part 39 of the Federal Aviation Regulations (14 CFR part 39) to include an AD that would apply to certain EADS SOCATA Model TBM 700 airplanes. This proposal was published in the Federal Register as a notice of proposed rulemaking (NPRM) on September 27, 2006 (71 FR 56414). The NPRM proposed to require you to inspect the pilot door locking stop fittings for correct length and, if any incorrect length pilot door locking stop fittings are found, replace them.

Comments

We provided the public the opportunity to participate in developing this AD. The following presents the comments received on the proposal and FAA's response to each comment:

Comment Issue No 1: Applicability

EADS SOCATA comments that EADS SOCATA Service Bulletin SB 70-131, ATA No. 53, dated July 2005, only applies to TBM 700 aircraft that are equipped with a pilot door. As such, this AD should only apply to TBM 700 aircraft that are equipped with a pilot door.

We agree and have changed the applicability statement so that it applies to Model TBM 700 airplanes, serial numbers 126 through 322, equipped with a pilot door, that are certificated in any category.

Comment Issue No 2: Material Incorporated by Reference

Jack Buster of the Modification and Replacement Parts Association (MARPA) requests that service documents deemed essential to the accomplishment of this proposed action be incorporated by reference and published in the Docket Management System (DMS).

We agree that the service documents are essential and should be incorporated by reference. However, we do not incorporate by reference any document in a proposed AD action; instead we incorporate by reference the document in the final rule. Since we are issuing the proposal as a final rule AD action, the service information referenced in this action will be incorporated by reference.

We are currently reviewing issues surrounding the posting of service bulletins in the Department of Transportation's DMS as part of the AD docket. Once we have thoroughly examined all aspects of this issue and have made a final determination, we will consider whether our current practice needs to be revised.

We have determined that to delay this AD action would be inappropriate since an unsafe condition exists. Therefore, we have made no change to the AD in this regard.

Comment Issue No 3: Parts Manufacturer Approval (PMA)

Mr. Buster also requests that the issue of parts manufacturer approval (PMA) be addressed in the proposed action and that all Directorates within the FAA treat the issue the same per Section 1, paragraph (b)(10) of Executive Order 12866.

Mr. Buster's comments are timely in that the FAA is currently reviewing this issue as it applies to all products: transport airplanes, commuter airplanes, general aviation airplanes, engines and propellers, rotorcraft, and appliances. The FAA acknowledges that there are different ways of addressing this issue to ensure that unsafe PMA parts are identified and addressed. Once we have thoroughly examined all aspects of this issue, including input from industry, and have made a final determination, we will consider developing a standardized approach and standardized language on how to address PMA parts in airworthiness directives.

We have determined that to delay this AD action would be inappropriate since an unsafe condition exists and that replacement of certain parts must be done to ensure continued safety. Therefore, we have made no change to the AD in this regard.

Conclusion

We have carefully reviewed the available data and determined that air safety and the public interest require adopting the AD as proposed except for minor editorial corrections. We have determined that these minor corrections:

• Are consistent with the intent that was proposed in the NPRM for correcting the unsafe condition; and

• Do not add any additional burden upon the public than was already proposed in the NPRM.

Costs of Compliance

We estimate that this AD affects 157 airplanes in the U.S. registry.

We estimate the following costs to accomplish the inspection and repair:

Labor cost | Parts cost | Total cost per airplane | Total cost on U.S. operators
4.5 work-hours × $80 per hour = $360 | $15 | $375 | $58,875

Authority for This Rulemaking

Title 49 of the United States Code specifies the FAA's authority to issue rules on aviation safety. Subtitle I, Section 106 describes the authority of the FAA Administrator. Subtitle VII, Aviation Programs, describes in more detail the scope of the agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this AD.

Regulatory Findings

We have determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this AD (and other information as included in the Regulatory Evaluation) and placed it in the AD Docket. You may get a copy of this summary by sending a request to us at the address listed under ADDRESSES. Include “Docket No. FAA-2006-25637; Directorate Identifier 2006-CE-43-AD” in your request.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2007-04-08 EADS SOCATA: Amendment 39-14939; Docket No. FAA-2006-25637; Directorate Identifier 2006-CE-43-AD.

Effective Date

(a) This AD becomes effective on March 23, 2007.

Affected ADs

(b) None.

Applicability

(c) This AD applies to Model TBM 700 airplanes, serial numbers 126 through 322, equipped with a pilot door, that are certificated in any category.

Unsafe Condition

(d) This AD results from a pilot door adjustment procedure not being done properly. We are issuing this AD to detect and correct incorrect length pilot door locking stop-fittings. This condition, if not corrected, could result in depressurization of the airplane.

Compliance

(e) To address this problem, you must do the following:

Actions | Compliance | Procedures
(1) Inspect the pilot door locking stop-fittings for correct length | Within 30 days after March 23, 2007 (the effective date of this AD), unless already done | Follow EADS SOCATA Service Bulletin SB 70-131, ATA No. 53, dated July 2005.
(2) If any incorrect length pilot door locking stop-fittings are found, replace them | Before further flight after the inspection required by paragraph (e)(1) of this AD | Follow EADS SOCATA Service Bulletin SB 70-131, ATA No. 53, dated July 2005.

(f) If you have ordered parts and they are not available, then you may fly unpressurized until parts become available or for a period not to exceed 90 days after the inspection required in paragraph (e)(1) of this AD, whichever occurs first. You must also fabricate and install a placard as described below. Completing the action of paragraph (e)(2) of this AD terminates the placard requirement.

(1) Fabricate (using letters at least 1/8 inch in height) a warning placard which states “This airplane is prohibited from pressurized flight.”

(2) Install the placard in full view of the pilot. The owner/operator holding at least a private pilot certificate as authorized by section 43.7 of the Federal Aviation Regulations (14 CFR 43.7) may install the placard as required in paragraph (f) of this AD.

Alternative Methods of Compliance (AMOCs)

(g) The Manager, Standards Office, Small Airplane Directorate, FAA, ATTN: Albert Mercado, Aerospace Engineer, FAA, Small Airplane Directorate, 901 Locust, Room 301, Kansas City, Missouri 64106; telephone: (816) 329-4119; fax: (816) 329-4090, has the authority to approve AMOCs for this AD, if requested using the procedures found in 14 CFR 39.19.

Material Incorporated by Reference

(h) You must use EADS SOCATA Service Bulletin SB 70-131, ATA No. 53, dated July 2005 to do the actions required by this AD, unless the AD specifies otherwise.

(1) The Director of the Federal Register approved the incorporation by reference of this service information under 5 U.S.C. 552(a) and 1 CFR part 51.

(2) For service information identified in this AD, contact EADS SOCATA, Direction des Services, 65921 Tarbes Cedex 9, France; telephone: 33 (0)5 62 41 73 00; fax: 33 (0)5 62 41 76 54; or SOCATA AIRCRAFT, INC., North Perry Airport, 7501 South Airport Rd., Pembroke Pines, FL 33023; telephone: (954) 893-1400; fax: (954) 964-4141.

(3) You may review copies at the FAA, Central Region, Office of the Regional Counsel, 901 Locust, Kansas City, Missouri 64106; or at the National Archives and Records Administration (NARA). For information on the availability of this material at NARA, call 202-741-6030, or go to: http://www.archives.gov/federal_register/code_of_federal_regulations/ibr_locations.html.

Issued in Kansas City, Missouri, on February 6, 2007.
Kim Smith,
Manager, Small Airplane Directorate, Aircraft Certification Service.

[FR Doc. E7-2507 Filed 2-15-07; 8:45 am]

BILLING CODE 4910-13-P